DEPARTMENT OF DEFENSE

Office of the Secretary

RIN 0720-AB28; DoD-2008-HA-0073

32 CFR Part 199

TRICARE; Hospital-Based Psychiatric Partial Hospitalization Programs

AGENCY: Office of the Secretary, Department of Defense.

ACTION: Final rule.

SUMMARY: This final rule will provide that TRICARE approval of a hospital is sufficient for its psychiatric partial hospitalization program (PHP) to be an authorized TRICARE provider. Upon implementation of this provision, separate TRICARE certification of hospital-based psychiatric PHPs would no longer be required. This rule will establish uniform requirements for recognizing a hospital-based PHP as an authorized TRICARE provider.

DATES: Effective Date: This rule is effective November 30, 2009.

FOR FURTHER INFORMATION CONTACT: Ann N. Fazzini, Medical Benefits and Reimbursement Branch, TRICARE Management Activity, telephone, (303) 676-3803. Questions regarding payment of specific claims should be addressed to the appropriate TRICARE contractor.

SUPPLEMENTARY INFORMATION:

I. Background

In the Federal Register of December 30, 2008, (73 FR 79726), the Office of the Secretary of Defense published for public comment a proposed rule regarding TRICARE certification standards for psychiatric PHPs. The rule proposed that TRICARE no longer impose its unique certification standards upon hospital-based psychiatric PHPs. Rather, TRICARE approval of a hospital shall be sufficient to establish the hospital as an authorized provider of its PHP services to TRICARE beneficiaries.

II. Review of Public Comments

We received two comments on the proposed rule. One commenter applauded the agency for its decision to find that TRICARE approval of a hospital is sufficient for its psychiatric partial hospitalization program to be an authorized provider. We appreciate the comment.

A second commenter recommended that DoD eliminate TRICARE's unique requirements for hospital-based PHPs. We note that the proposed rule put forward eliminating the unique requirements for hospital based PHPs and recognizing a hospital-based PHP as an authorized provider. This final rule adopts the provision.

This same commenter also urged DoD to revise its PHP reimbursement regulations by implementing a temporary military contingency payment adjustment (TMCPA) for PHP consistent with its policy for other outpatient services as described in 32 CFR 199.14. We refer the commenter to the final rule published in the Federal Register on December 10, 2008 (73 FR 74954), that discusses the Outpatient Prospective Payment System (OPPS). The OPPS allows for a temporary transitional payment adjustment (TTPA) and a TMCPA to buffer the financial impact of the new prospective payment system. The Department's rationale for adopting the TTPA was to ease the transition from the prior reimbursement system to the prospective payment-type of reimbursement and to give hospitals time to adjust and budget for potential revenue reductions. We note that the OPPS, TTPA, and TMCPA apply to PHP services.

Finally, the commenter also urged DoD to critically examine its payment structure for hospital-based PHP, with a strong attention to payment adequacy for hospital-based PHP. The commenter also stated that reviewing our payment structure will assure greater access to quality hospital-based PHPs. We respond by noting that we believe access and reimbursement will be enhanced by adopting the provision in this rule which provides that TRICARE approval of a hospital is sufficient for its PHP to be an authorized TRICARE provider. Upon implementation of this provision, separate TRICARE certification of hospital-based psychiatric PHPs shall no longer be required; consequently, access will be enhanced. Additionally, with our adoption of the Medicare full-day rate for partial hospitalization and allowing payment of professional services outside the per diem rate, with some exceptions, we feel the overall PHP payment (i.e., the TRICARE OPPS per diem plus payment for certain professional services) is comparable to the per diem rates currently in effect under TRICARE policy. In addition, the TMCPAs would also apply to ensure adequate access to PHP services. Again, for further information on PHP reimbursement and OPPS, we refer the reader to the final rule published in the Federal Register on December 10, 2008 (73 FR 74954). It should be noted, however, that neither the proposed rule nor this final rule address the reimbursement provisions of section 199.14.

III. Regulatory Procedures

Executive Order 12866, “Regulatory Planning and Review”

Executive Order 12866 requires a comprehensive regulatory impact analysis be performed on any economically significant regulatory action, defined as one that would result in an annual effect of $100 million or more on the national economy or which would have other substantial impacts. This final rule is not a significant regulatory action. Nor is it subject to the Congressional Review Act.

Public Law 96-354, “Regulatory Flexibility Act” (RFA) (5 U.S.C. 601)

Public Law 96-354, “Regulatory Flexibility Act” (RFA) (5 U.S.C. 601), requires each Federal agency to prepare a regulatory flexibility analysis when the agency issues a regulation which would have a significant impact on a substantial number of small entities. This final rule is not an economically significant regulatory action, and it has been certified that it will not have a significant impact on a substantial number of small entities. Therefore, this final rule is not subject to the requirements of the RFA.

Public Law 96-511, “Paperwork Reduction Act” (44 U.S.C. Chapter 35)

This rule does not contain a “collection of information” requirement, and will not impose additional information collection requirements on the public under Public Law 96-511, “Paperwork Reduction Act” (44 U.S.C. Chapter 35).

Public Law 104-4, Section 202, “Unfunded Mandates Reform Act”

Section 202 of Public Law 104-4, “Unfunded Mandates Reform Act,” requires an analysis be performed to determine whether any Federal mandate may result in the expenditure by State, local and tribal governments, in the aggregate, or by the private sector of $100 million in any one year. It has been certified that this final rule does not contain a federal mandate that may result in the expenditure by State, local and tribal governments, in aggregate, or by the private sector, of $100 million or more in any one year. Therefore, this final rule is not subject to this requirement.

Executive Order 13132, “Federalism”

Executive Order 13132, “Federalism,” requires an impact analysis be performed to determine whether the rule has federalism implications that would have substantial direct effects on the States, on the relationship between the national government and the States, or on the distribution of power and responsibilities among the various levels of government. It has been certified that this final rule does not have federalism implications, as set forth in Executive Order 13132.

List of Subjects in 32 CFR Part 199

Claims, Dental health, Health care, Health insurance, Individuals with disabilities, Military personnel.

Accordingly, 32 CFR part 199 is amended as follows:

PART 199—CIVILIAN HEALTH AND MEDICAL PROGRAM OF THE UNIFORMED SERVICES (CHAMPUS)

1. The authority citation for part 199 continues to read as follows:

Authority: 5 U.S.C. 301; 10 U.S.C. chapter 55.

2. Section 199.6 is amended by revising paragraphs (b)(4)(xii)(A)(2)(i) and (b)(4)(xii)(E)(7) introductory text to read as follows:

§ 199.6 TRICARE—authorized providers.

* * * * *

(b) * * *

(4) * * *

(xii) * * *

(A) * * *

(2) Eligibility. (i) Every free-standing psychiatric partial hospitalization program must be certified pursuant to TRICARE certification standards. Such standards shall incorporate the basic standards set forth in paragraphs (b)(4)(xii)(A) through (D) of this section, and shall include such additional elaborative criteria and standards as the Director, TRICARE Management Activity, determines are necessary to implement the basic standards. Each psychiatric partial hospitalization program must be either a distinct part of an otherwise-authorized institutional provider or a free-standing program. Approval of a hospital by TRICARE is sufficient for its partial hospitalization program to be an authorized TRICARE provider. Such hospital-based partial hospitalization programs are not required to be separately certified pursuant to TRICARE certification standards.

* * * * *

(E) * * *

(7) Free-standing partial hospitalization programs shall certify that:

* * * * *

Dated: October 23, 2009.
Patricia L. Toppings,
OSD Federal Register Liaison Officer, Department of Defense.

[FR Doc. E9-26038 Filed 10-28-09; 8:45 am]

BILLING CODE 5001-06-P